DEPARTMENT OF TRANSPORTATION

Federal Transit Administration

Early Scoping Notification for the Alternatives Analysis of the Federal Way Transit Extension From SeaTac to Federal Way, WA

AGENCY: Federal Transit Administration, DOT.

ACTION: Notification of early scoping meetings.

SUMMARY: The Federal Transit Administration (FTA) and the Central Puget Sound Regional Transit Authority (Sound Transit) issue this early scoping notice to advise other agencies and the public that they intend to explore potential alternatives for improving public transit service between the cities of SeaTac and Federal Way in King County, Washington to improve connections to the regional transit system and major activity centers.

The early scoping notice is intended to invite public comments on the scope of the alternatives analysis study, including the project's purpose and need, transportation problems to be addressed, the range of alternatives, the transportation and community impacts and benefits to be considered, the capital and operating costs, and other factors that the public and agencies believe should be considered in analyzing the alternatives. If preparation of an environmental impact statement (EIS) is warranted following the completion of the alternatives analysis, a notice of intent to prepare an EIS will be published.

The early scoping process is intended to support the alternatives analysis and a future National Environmental Policy Act (NEPA) scoping process, as appropriate. In addition, it supports FTA planning requirements associated with the New Starts (“Section 5309”) funding program for certain kinds of major capital investments. While recent legislation may lead to changes in the New Starts process, Sound Transit will comply with relevant FTA requirements relating to planning and project development to help it analyze and screen alternatives in preparation for the NEPA process.

Public meeting times and locations are described immediately below. Following that is a more detailed discussion of the project and the early scoping process.

DATES: Two public scoping meetings and one tribal/agency scoping meeting will be held at the following times and locations:

1. November 8, 2012, 4:00 p.m. to 7:00 p.m., Highline Community College, Building 2, 2400 S. 240th Street, Des Moines, WA 98198.

2. November 13, 2012, 4:00 p.m. to 7:00 p.m., Harry S. Truman High School, Gymnasium, 31455 28th Avenue, Federal Way, WA 98003.

3. (Agency and Tribal Meeting), November 7, 2012, 2:00 p.m. to 3:00 p.m.

The agency and tribal meeting will be conducted in a webinar format, accessible via the internet and by teleconference. Invitations to the on-line agency scoping meeting and the public scoping meetings will be sent to the appropriate federal, tribal, state, and local governmental units. Invitations will include details on how to participate in the on-line meeting.

Supplemental information about the project is provided below. Also, Sound Transit will provide information on the alternatives analysis at the public meetings, along with opportunities for spoken or written comments. Additional information is available on Sound Transit's Web site at: http://www.soundtransit.org/FWextension. Written scoping comments are requested by November 19, 2012 and can be sent or emailed to the address below, submitted at the public meetings, or provided at the Web site address above.

ADDRESSES: Federal Way Transit Extension (c/o Kent Hale, Senior Environmental Planner), Sound Transit, 401 S. Jackson Street, Seattle, WA 98104-2826, or by email to FWTE@soundtransit.org.

FOR FURTHER INFORMATION CONTACT: J. Steve Saxton, Transportation Program Specialist, FTA Region 10, email: fta.tro10mail@dot.gov.

SUPPLEMENTARY INFORMATION: Early Scoping. Early scoping is intended to generate public comments on the scope of a planning effort called “alternatives analysis.” The alternatives analysis lets an agency evaluate the costs, benefits, and impacts of a range of transportation alternatives designed to address mobility problems and other locally identified objectives in a defined transportation corridor, and helps the agency determine which particular investment strategy should receive more focused study and development. Early scoping for the Federal Way Transit Extension is being conducted in support of NEPA requirements and in accordance with the Council on Environmental Quality's and FTA's regulations and guidance for implementing NEPA (40 CFR 1501.2 through 8 and 23 CFR 771.111), which encourage federal agencies to initiate NEPA early in their planning processes. Early scoping allows the scoping process to begin as soon as there is enough information to describe the proposal so that the public and relevant agencies can participate effectively. This is particularly useful in situations when a proposed action involves a broadly defined corridor with an array of alignment alternatives under consideration. This early scoping notice invites the public to comment on the scope of the planning alternatives analysis, including (a) the purpose and need for the project, (b) the range of alternatives to study, and (c) the environmental, transportation and community impacts and benefits to consider.

The Federal Way Transit Extension and the Regional Transit System. The Federal Way Transit Extension corridor is approximately 7.6 miles long and extends from the future S. 200th Street Link light rail station in SeaTac to the Federal Way Transit Center. It parallels State Route 99 (SR 99) and Interstate 5 (I-5) and generally follows a topographic ridge between Puget Sound and the Green River Valley where the city limits of SeaTac, Des Moines, Kent, and Federal Way meet.

Sound Move, the first phase of regional transit investments, was approved and funded by voters in 1996. Sound Transit is now completing its implementation. It includes light rail, commuter rail and regional express bus infrastructure and service, including the Central Link light rail system. In 2009, Sound Transit began light rail operations between downtown Seattle and Sea-Tac Airport, and an extension to the University of Washington is under construction and scheduled to open in 2016.

In 2004, Sound Transit began planning for the next phase of investment to follow Sound Move. This work included updating Sound Transit's Long-Range Plan and associated environmental review. After several years of Sound Transit system planning work, voters in 2008 authorized funding to extend light rail south to Federal Way as part of the Sound Transit 2 (ST2) Plan. Link light rail south from Sea-Tac Airport to S. 200th Street is now under construction and is scheduled to open in 2016. The ST2 Plan also extends light rail from downtown Seattle east to Bellevue and Redmond, and from the University of Washington north to Northgate and Lynnwood.

The Purpose of and Need for the Federal Way Transit Extension. The purposes of the project are to:

• Provide a reliable and efficient two-way, peak and off-peak transit service of sufficient capacity to meet the projected demand between the communities and activity centers between the cities of SeaTac and Federal Way and the other urban centers in the Central Puget Sound area;

• Provide a mobility alternative to travel on congested roadways and improve connections to the Central Puget Sound regional multimodal transportation system;

• Support South King County communities and the region's adopted vision for land use, transportation and economic development, a vision that promotes the well-being of people and communities, ensures economic vitality and preserves a healthy environment;

• Support the long-range vision, goals, and objectives for transit service established by Sound Transit's Regional Transit Long-Range Plan for high quality regional transit service between Seattle and Tacoma.

The project is needed to:

• Meet the growing needs of the corridor and of the region's future residents and workers by increasing mobility, access, and transportation capacity connecting regional growth and activity centers in the study area and the rest of the region, as called for in the region's adopted plans, including the PSRC's VISION 2040 and Transportation 2040, as well as related county and city comprehensive plans;

• Address the problems of increasing and unreliable travel times for transit users in the study area, who are now dependent on the corridor's highly congested roadway and HOV systems;

• Provide an alternative to automobile trips on I-5 and SR 99, the two primary highways serving the corridor, which provide unreliable travel times throughout the day;

• Help implement Sound Transit's Regional Transit Long-Range Plan and allow the future extension of HCT south to Tacoma;

• Expand and enhance transit options serving transit-dependent residents and low-income and minority populations concentrated in the study area;

• Provide the transit infrastructure needed to support SeaTac and Federal Way, two designated regional growth centers that provide housing, employment, public services, and multimodal transportation connections;

• Help the state and region reduce transportation-related energy consumption and greenhouse gas emissions, consistent with goals established in RCW 47.01.440, and Chapter 70.235 RCW.

Potential Alternatives. Previous planning work for the ST2 Plan examined conceptual light rail alignments between SeaTac and Federal Way along portions of SR 99 and I-5 to help develop cost estimates and establish ridership potential for transit improvements in the project corridor. General station locations near Highline Community College, Redondo/Star Lake park-and-ride lots, and the Federal Way Transit Center were identified. Sound Transit invites comments on the alternative transit alignments, and station locations to be studied, and on the proposed evaluation framework and criteria to be used to compare alternatives.

As part of this alternatives analysis, Sound Transit will explore alternative alignment, station, and design configurations that could meet the project's purpose and need. Alternatives could include alternatives on SR 99 or I-5, or other alternatives that arise during the early scoping comment period. The alternatives will reflect a range of high- and low-cost capital improvements, including a “no-build” alternative which can serve as a “baseline” for measuring the merits of higher level investments. Sound Transit will identify measures for evaluating the relative merits of alternatives, and technical methodologies for generating the information used to support such measures. These measures typically include disciplines such as travel forecasting, capital and operations and maintenance costs, and corridor-level environmental and land use analyses.

At the end of the alternatives analysis process, Sound Transit and the FTA anticipate narrowing the range of alternatives for further evaluation in a NEPA document. If the resulting range of alternatives involves the potential for significant environmental impacts requiring an environmental impact statement (EIS), FTA and Sound Transit will publish a Notice of Intent to Prepare an EIS in the Federal Register, and invite public and agency comment on the scope of the EIS at that time.

Issued on: October 10, 2012.
Richard Krochalis,
Regional Administrator.

[FR Doc. 2012-25414 Filed 10-15-12; 8:45 am]

BILLING CODE P